DEPARTMENT OF COMMERCE

National Oceanic and Atmospheric Administration

50 CFR Part 224

[Docket No. 260227-0058]

RIN 0648-BO42

Advance Notice of Proposed Rulemaking To Amend the North Atlantic Right Whale Vessel Strike Reduction Rule

AGENCY: National Marine Fisheries Service (NMFS), National Oceanic and Atmospheric Administration (NOAA), Commerce.

ACTION: Advance notice of proposed rulemaking; request for comments.

SUMMARY: NMFS is considering possible deregulatory action to modify and modernize the North Atlantic Right Whale Vessel Speed Rule. The goal of this initiative is to reduce unnecessary regulatory and economic burdens on the regulated community by replacing current seasonal speed restrictions with alternative management areas and advanced, technology-based, strike-avoidance measures that maintain or enhance conservation efficacy for the endangered North Atlantic right whale (Eubalaena glacialis).

DATES: Information and comments must be received by June 2, 2026.

ADDRESSES: You may submit comments via the Federal e-rulemaking Portal. Visit https://www.regulations.gov and enter NOAA-NMFS-2026-0364 in the search box. Click the “Comment Now!” icon to complete the required fields.

All comments received are a part of the public record and will generally be posted for public viewing on https://www.regulations.gov without change. All personal identifying information (e.g., name, address), confidential business information, or otherwise sensitive information submitted voluntarily by the sender will be publicly accessible. NMFS will accept anonymous comments (enter “N/A” in the required fields if you wish to remain anonymous).

FOR FURTHER INFORMATION CONTACT: Kimberly Damon-Randall, Office of Protected Resources, 301-427-8400, narw.vesselstrike@noaa.gov.

SUPPLEMENTARY INFORMATION:

Background

The North Atlantic right whale is listed as endangered under the Endangered Species Act (16 U.S.C. 1531 et seq.), with an estimated population size of about 380 individuals at the start of 2024 (Linden, 2025). The main threats to North Atlantic right whale survival include entanglement in fishing gear and collisions with vessels. In 2008, NMFS implemented seasonal, mandatory vessel speed restrictions in designated areas along the U.S. East Coast to reduce the risk of vessel collisions with North Atlantic right whales (73 FR 60173, October 10, 2008, “speed rule”). NMFS subsequently modified the speed rule by removing the original 5-year “sunset” provision (78 FR 73726, December 9, 2013; 79 FR 34245, June 16, 2014).

The speed rule requires most vessels equal to or greater than 65 feet (19.8 m) in length to transit at speeds of 10 knots or less in designated Seasonal Management Areas (SMAs). See 50 CFR 224.105. Along with the speed rule, in 2008 NMFS implemented a voluntary Dynamic Management Area (DMA) program (also referred to as Slow Zones since 2020) to enhance protections for North Atlantic right whale aggregations that may form outside designated SMA boundaries (73 FR 60173, October 10, 2008).

Information on the speed rule and DMA/Slow Zone programs may be found at: https://www.fisheries.noaa.gov/national/endangered-species-conservation/reducing-ship-strikes-north-atlantic-right-whales.

Request for Comments and Other Information

NMFS requests information to inform a possible deregulatory-focused modernization of the speed rule and the development of alternative vessel strike-reduction programs. The agency intends to craft durable programs that consider both conservation and the economic vitality of coastal communities. To this end, we specifically seek information concerning the following topics.

The Effectiveness of Technologies to Reduce Vessel Strikes with Whales: NMFS supports the development and use of technologies, engineering approaches, and other advanced tools to reduce the risk of vessel strikes with large whales. As part of an ongoing partnership with The MITRE Corporation, NMFS recently released a Technology Readiness Level (TRL) report, which assesses the maturity level (i.e., research and development stage) of certain technologies in relation to vessel collision avoidance. MITRE's report may be accessed at https://www.fisheries.noaa.gov/s3/2026-02/Vessel-Strike-Risk-Reduction-TRLReport.pdf. NMFS seeks comment, especially technical information, on the readiness of technologies to effectively reduce vessel strikes, following the TRL framework as applied in the MITRE report (e.g., table 2-2). In addition, NMFS seeks data on available and upcoming technologies, engineering approaches, onboard vessel adaptation capabilities, and other relevant practices/protocols, with a particular interest in the capacity of these approaches to trigger automated, real-time DMA/Slow Zone notifications that could replace static seasonal measures.

Vessel-size-specific Risk Assessment: NMFS seeks scientific and commercial data and/or analysis distinguishing the strike risk posed by various vessel size classes, including comparing the draft and maneuverability of smaller recreational vessels versus large ocean-going ships and how those factors affect strike risk.

Alternative Management Areas: NMFS seeks information on using dynamic approaches for speed zones based on whale detections (sightings, acoustic or other forms of detection) communicated to mariners via real-time electronic notification as a primary management tool in place of static SMAs. NMFS also welcomes perspectives from impacted parties on the use of voluntary DMAs/Slow Zones and the effectiveness of these temporary zones.

Safety Deviation Provision Improvements: NMFS seeks recommendations for updating the speed rule safety deviation provision (50 CFR 224.105(c)) to provide greater flexibility for vessel operators. We welcome information regarding potential safety risks (e.g., swamping, capsizing, or loss of steerage) of a 10-knot speed limit on smaller vessels in open ocean conditions or adverse weather.

Efficacy of the Speed Rule: NMFS seeks comments assessing the effectiveness of the speed rule in reducing the risk of vessel strikes with right whales, and input on vessel compliance with the speed rule. We further seek suggestions on technological interventions that could improve these results relative to the current speed rule.

Economic Impacts on Industry: NMFS seeks quantifiable data on the economic consequences of the speed rule, especially where it may have impacted operations for shipping, fishing, tourism, or other industries. NMFS also seeks relevant information that informs potential economic impacts of technology adoption, including technologies discussed in the MITRE report, and other relevant technologies. This includes but is not limited to information about the impacts of the speed rule on small businesses and small governmental entities. Furthermore, we seek data on the economic and safety benefits of maintaining the current regulated vessel size threshold at 65 feet (19.8 m) relative to a less restrictive threshold. In addition, NMFS seeks comment on how a revised speed rule safety deviation provision may affect costs to industry.

Outreach: NMFS seeks information regarding successful models for mariner outreach and collaborative monitoring programs that incentivize voluntary strike avoidance through technology, education, and private sector partnerships.

References

Linden D., 2025. Population size estimation of North Atlantic right whales from 1990-2024. US Dept Commerce Northeast Fish Sci Cent Tech Memo 338. 14 p.

Authority: 16 U.S.C. 1531-1543 and 16 U.S.C. 1361 et seq.

Dated: February 27, 2026.
Samuel D. Rauch, III,
Deputy Assistant Administrator for Regulatory Programs, National Marine Fisheries Service.

[FR Doc. 2026-04260 Filed 3-3-26; 8:45 am]

BILLING CODE 3510-22-P